DEPARTMENT OF LABOR

Employment and Training Administration

[NAFTA-03588]

Williams Cutting Service, Inc., Brownsville, TX; Including Workers of William Carter Co. Employed at Williams Cutting Service, Inc., Brownsville, TX; Amended Certification Regarding Eligibility To Apply for NAFTA-Transitional Adjustment Assistance

In accordance with Section 250(A), Subchapter D, Chapter 2, Title II, of the Trade Act of 1974 (19 U.S.C 2273), the Department of Labor issued a Certification for NAFTA Transitional Adjustment Assistance on December 16, 1999, applicable to workers of Williams Cutting Service, Inc., Brownsville, Texas. The notice was published in the Federal Register on January 14, 2000 (65 FR 2433).

Upon receipt of a petition from workers of Williams Carter Company who were employed at Williams Cutting Service, Inc., the Department reviewed the certification for workers of the subject firm. New information provided by the company shows that some employees of William Carter Company, Harlingen, Texas were employed by Williams Cutting Service, Inc. to perform quality control for infants' apparel produced at the Brownsville Texas location of Williams Cutting Service, Inc. Separations of workers of William Carter Company employed at Williams Cutting Service, Inc. occurred for the same reasons as separations of workers employed by Williams Cutting Service, Inc.

Based on these findings, the Department is amending the certification to include workers of William Carter Company, Harlingen, Texas employed at Williams Cutting Service, Inc., Brownsville, Texas.

The intent of the Department's certification is to include all workers of Williams Cutting Service, Inc. adversely affected by imports from Mexico.

The amended notice applicable to NAFTA-03588 is hereby issued as follows:

All workers of Williams Cutting Service, Inc., Brownsville, Texas including workers of William Carter Company employed at Williams Cutting Service, Inc., Brownsville, Texas who became totally or partially separated from employment on or after November 16, 1998 through December 16, 2001 are eligible to apply for NAFTA-TAA under Section 250 of the Trade Act of 1974.

Signed at Washington, D.C. this 28th day of February, 2000.
Grant D. Beale,
Program Manager, Division of Trade Adjustment Assistance.

[FR Doc. 00-6372 Filed 3-14-00; 8:45 am]

BILLING CODE 4510-30-M